ENVIRONMENTAL PROTECTION AGENCY

[FRL11845-01-OA]

Request for Nominations to Historically Black Colleges and Universities and Minority Serving Institutions Advisory Council

AGENCY: Environmental Protection Agency (EPA).

ACTION: Notice of request for applications.

SUMMARY: The U.S. Environmental Protection Agency (EPA) invites applications from a diverse range of qualified candidates to be considered for appointment to the Historically Black Colleges and Universities and Minority Serving Institutions Advisory Council (HBCU-MSI AC). Approximately 15-20 vacancies are expected to be filled by Fall 2024. For appointment consideration, nominations should be submitted by May 8th, 2024. Sources in addition to this Federal Register notice may also be utilized in the solicitation of nominees.

FOR FURTHER INFORMATION CONTACT: Pradnya Bhandari, Designated Federal Officer, Office of Public Engagement and Environmental Education, HBCU-MSI.AC@epa.gov, telephone 919-937-1989.

SUPPLEMENTARY INFORMATION: The Historically Black Colleges and Universities and Minority Serving Institutions Advisory Council (HBCU-MSI AC) is a federal advisory committee chartered under the Federal Advisory Committee Act, Public Law 92-463. The HBCU-MSI AC was created in 2023 by the United States Environmental Protection Agency's Office of Public Engagement and Environmental Education at the direction of the Administrator of EPA. Implementing authority was delegated to the Administrator of EPA. The HBCU-MSI AC provides independent advice and recommendations to the Administrator of the Environmental Protection Agency (EPA) on how to leverage Historically Black Colleges and Universities and Minority Serving Institutions to help diversify the agency's workforce and nurture the next generation of environmental leaders and ensure that these vital institutions of higher learning have the resources and support to continue to thrive for generations to come. MSIs are institutions of higher education that serve minority populations and include HBCUs, Hispanic-Serving Institutions (HSIs), Tribal Colleges and Universities (TCUs), and Asian American and Pacific Islander Serving Institutions (AAPISIs).

The HBCU-MSI AC is part of a comprehensive effort to advance equity in economic and educational opportunities for all Americans while protecting human health and the environment. Members are appointed by the EPA Administrator for a two-year term. The HBCU-MSI AC expects to meet approximately two to three times a year for in-person, virtual or hybrid meetings, subject to the availability of appropriations. Members serve on the committee in a voluntary capacity. Although we are unable to offer compensation or an honorarium, members may receive travel and per diem allowances, according to applicable Federal travel regulations and the agency's budget. To learn more about HBCU-MSI AC, please visit https://www.epa.gov/faca/historically-black-colleges-and-universities-and-minority-serving-institutions-advisory.

The EPA is seeking nominations from a variety of sectors including but not limited to representatives from business and industry, academia, non-governmental organizations, and local, county, and tribal governments that have experience working at or in partnership with HBCUs and/or MSIs. According to the mandates of FACA, committees are required to support diversity across a broad range of constituencies, sectors, and groups.

In accordance with Executive Order 14035 (June 25, 2021) and consistent with law, EPA values and welcomes opportunities to increase diversity, equity, inclusion, and accessibility on its Federal advisory committees. EPA's Federal advisory committees strive to have a workforce that reflects the diversity of the American people.

The following criteria will be used to evaluate applicants:

• The HBCU-MSI AC will be composed of approximately 15-20 members who will generally serve as Representative members of non-federal interests appointed by the Administrator of EPA.

• Members must have a strong affiliation with HBCUs and/or MSIs or the communities represented and served by HBCUs and/or MSIs, including through education, work, or partnerships.

• Members must demonstrate a knowledge of the student continuum from college to career, preferably through related experience with HBCUs and/or MSIs. In selecting members, EPA will consider candidates from business and industry, academic institutions, state, local and tribal governments, public interest groups, environmental organizations, service groups, and more. In determining a fair spread across categories, no more than 60% of the advisory committee can come from a single categorical entity.

• Members must demonstrate notable commitment to environmental issues with extensive involvement, knowledge, or engagement with relevant material and/or affected communities.

• Members must demonstrate a working knowledge of Federal, state, and local government operations and systems.

• Members must demonstrate a notable commitment to Diversity, Equity, Inclusion and Accessibility, including for underserved communities.

• Members must demonstrate an ability to work in a consensus building process with a wide range of representative from diverse constituencies.

• Members must be able to contribute approximately 10 to 15 hours per month to HBCU-MSI AC activities, including the attendance at meetings and participating in the development of advice letters/reports and other material.

• Members must demonstrate potential for active and constructive involvement in HBCU-MSI AC work.

How to Submit Applications: Any interested person or organization may apply to be considered for an appointment to serve on the Historically Black Colleges and Universities and Minority Serving Institutions Advisory Council.

• Applications must include:

(1) contact information as outlined below:

Applicants must provide their: full legal name, preferred name if applicable, pronouns, date of birth, current home address, and phone number.

(2) resume or curriculum vitae (CV)

(3) statement of interest explaining why you would like to serve on this committee:

The statement of interest should describe how the nominee's background, knowledge, and experience would add value to the committee's work, and how the individual's qualifications would contribute to the overall diversity of the Historically Black Colleges and Universities and Minority Serving Institutions Advisory Council. To help the Agency in evaluating the effectiveness of its outreach efforts, please include in the statement of interest how you learned of this opportunity.

Please be aware that EPA's policy is that, unless otherwise prescribed by statute, members generally are appointed for a two-year term. For appointment consideration, interested nominees should submit the application materials electronically via email to Pradnya Bhandari at HBCU-MSI.AC@epa.gov, with the subject line HBCU-MSI AC, COMMITTEE APPLICATION PACKAGE 2024 for (Name of Nominee) by May 8th, 2024.

Jessica Loya,
Deputy Associate Administrator, Office of Public Engagement, Office of Public Engagement and Environmental Education, Office of the Administrator.

[FR Doc. 2024-06201 Filed 3-22-24; 8:45 am]

BILLING CODE 6560-50-P